DEPARTMENT OF HOMELAND SECURITY

Federal Emergency Management Agency

44 CFR Part 67

[Docket ID FEMA-2011-0002; Internal Agency Docket No. FEMA-B-1189]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before July 18, 2011.

ADDRESSES: The corresponding preliminary Flood Insurance Rate Map (FIRM) for the proposed BFEs for each community is available for inspection at the community's map repository. The respective addresses are listed in the table below.

You may submit comments, identified by Docket No. FEMA-B-1189, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Madison County, Alabama, and Incorporated Areas
Aldridge Creek Tributary 1 | Approximately 1,700 feet downstream of Chaney Thompson Road | None | +579 | City of Huntsville.
| At the downstream side of Chunn Road | None | +618
Aldridge Creek Tributary 10 | Approximately 0.4 mile downstream of Bailey Cove Road Southeast | None | +606 | City of Huntsville.
| Approximately 270 feet downstream of Cross Creek Road Southeast | None | +691
Aldridge Creek Tributary 12 | At the downstream side of Airport Road | None | +622 | City of Huntsville.
| Approximately 1,400 feet downstream of Four Mile Post Road | None | +719
Aldridge Creek Tributary 17 | Approximately 1,000 feet downstream of Toney Drive Southeast | None | +662 | City of Huntsville.
| Approximately 70 feet downstream of Deborah Drive Southeast | None | +891
Aldridge Creek Tributary 8 | Approximately 500 feet downstream of Bailey Cove Road Southeast | None | +595 | City of Huntsville.
| At the downstream side of Box Canyon Road Southeast | None | +707
Aldridge Creek Tributary 9 | Approximately 270 feet downstream of Bailey Cove Road Southeast | None | +596 | City of Huntsville.
| At the upstream side of Vista Drive Southeast | None | +700
Barren Fork Creek | At the Indian Creek confluence | None | +569 | City of Huntsville, Town of Triana, Unincorporated Areas of Madison County.
| At the Betts Spring Branch and Bradford Creek confluence | None | +571
Big Cove Creek | Approximately 700 feet downstream of the Hays Preserve Trail | +600 | +599 | City of Huntsville, Unincorporated Areas of Madison County.
| Approximately 0.8 mile upstream of Dug Hill Road | None | +686
Big Cove Creek Tributary | At the Big Cove Creek confluence | None | +657 | City of Huntsville, Unincorporated Areas of Madison County.
| Approximately 0.7 mile upstream of the Big Cove Creek confluence | None | +677
Blue Spring Creek | Approximately 400 feet downstream of Timbercrest Drive Northwest | +666 | +667 | City of Huntsville.
| Approximately 110 feet upstream of Pulaski Pike Northwest | +750 | +751
Bradford Creek | Approximately 1,300 feet upstream of Palmer Road | None | +645 | City of Madison, Unincorporated Areas of Madison County.
| Approximately 1,400 feet upstream of Gillespie Road | None | +705
Bradford Creek Tributary | At the Bradford Creek confluence | None | +676 | City of Madison, Unincorporated Areas of Madison County.
| At the downstream side of Brownsville Ferry Road | None | +702
Broglan Branch | Approximately 630 feet downstream of Governors Drive Southwest | +608 | +605 | City of Huntsville.
| Approximately 100 feet downstream of Mastin Lake Road | None | +728
Broglan Branch Tributary A | Approximately 140 feet downstream of Oster Drive | None | +647 | City of Huntsville.
| Approximately 0.5 mile upstream of Commercial Drive | None | +682
Broglan Branch Tributary B | Approximately 520 feet downstream of Nevel Drive | None | +709 | City of Huntsville.
| At the downstream side of Kyle Lane | None | +732
Buckhorn Branch | Approximately 0.9 mile downstream of Shady Oak Drive | None | +688 | Unincorporated Areas of Madison County.
| Approximately 1,040 feet upstream of Maysville Road | None | +766
Dallas Branch | Approximately 580 feet downstream of Washington Street | +629 | +628 | City of Huntsville.
| Approximately 210 feet upstream of Saddletree Boulevard | None | +837
Dallas Branch Bypass | Approximately 1,800 feet downstream of Church Street | +619 | +617 | City of Huntsville.
| Approximately 540 feet upstream of Dickson Street Northeast | +641 | +642
Dallas Branch Tributary A | Approximately 370 feet downstream of Halsey Avenue Northeast | None | +647 | City of Huntsville.
| Approximately 300 feet upstream of Vinyard Street Northeast | None | +695
Dry Creek 1 | Approximately 1,680 feet downstream of Brandon Town Road | +665 | +664 | City of Huntsville.
| At the downstream side of Blake Bottom Road Northwest | None | +749
Dry Creek 1 Tributary A | Approximately 500 feet downstream of Sparkman Drive Northwest | None | +695 | City of Huntsville.
| Approximately 220 feet upstream of Campus Road | None | +746
Dry Creek 1 Tributary B | Approximately 170 feet downstream of Dry Creek Drive Northwest | None | +709 | City of Huntsville.
| Approximately 380 feet upstream of Terrell Drive Northwest | None | +736
East Fork Pinhook Creek | Approximately 1,300 feet downstream of Medaris Road | +680 | +679 | City of Huntsville.
| Approximately 450 feet upstream of Spragins Hollow Road Northwest | None | +748
East Fork Pinhook Creek Tributary A | Approximately 1,820 feet downstream of Ricky Road | None | +701 | City of Huntsville.
| Approximately 0.4 mile upstream of Ricky Road | None | +738
Fagan Creek | Approximately 710 feet downstream of Monroe Street | +610 | +608 | City of Huntsville.
| Approximately 0.7 mile upstream of Telfair Drive Southeast | None | +719
Flint River | Approximately 300 feet upstream of Winchester Road Northeast | None | +673 | Unincorporated Areas of Madison County.
| Approximately 3.0 miles upstream of Carriger Road | None | +767
Glover Cove Creek | Approximately 0.5 mile downstream of Old Highway 431 | None | +587 | Town of Owens Cross Roads, Unincorporated Areas of Madison County.
| Approximately 750 feet upstream of Old Gurley Pike | None | +627
Huntsville Spring Branch | Approximately 890 feet downstream of Drake Avenue | +594 | +593 | City of Huntsville, Unincorporated Areas of Madison County.
| At the downstream side of Williams Avenue Southwest | +609 | +608
Hurricane Creek | Approximately 0.9 mile downstream of Little Cove Road | None | +612 | Town of Gurley, Unincorporated Areas of Madison County.
| Approximately 1,020 feet downstream of County Lake Road | None | +663
Indian Creek | Approximately 0.8 mile downstream of I-565 | None | +606 | City of Huntsville, Unincorporated Areas of Madison County.
| Approximately 0.6 mile upstream of Old Monrovia Road Northwest | None | +712
Knox Creek | At the upstream side of Dupree Worthey Road | None | +657 | City of Huntsville, Unincorporated Areas of Madison County.
| Approximately 0.4 mile downstream of Wall Triana Highway | +730 | +732
Limestone Creek | Approximately 0.8 mile upstream of Lee Highway | None | +649 | City of Huntsville.
| Approximately 1.6 miles upstream of Capshaw Road | None | +672
Lollar Branch | Approximately 0.8 mile downstream of Winchester Road | None | +684 | Unincorporated Areas of Madison County.
| Approximately 1.3 miles upstream of Maysville Road | None | +786
McDonald Creek | Approximately 1,950 feet downstream of Centaur Boulevard Southwest | None | +581 | City of Huntsville, Unincorporated Areas of Madison County.
| Approximately 70 feet upstream of Galaxy Way | None | +692
Mill Creek Tributary | Approximately 0.9 mile downstream of Bridgefield Road | None | +677 | City of Madison.
| At the downstream side of Millsford Drive | None | +749
Miller Branch | Approximately 1,700 feet downstream of Wall Triana Highway | +571 | +570 | City of Huntsville, Unincorporated Areas of Madison County.
| Approximately 0.6 mile downstream of County Road 127 | None | +574
Molder Branch | Approximately 2.2 miles downstream of Bob Stiles Road | None | +658 | Unincorporated Areas of Madison County.
| At the downstream side of Bob Stiles Road | None | +680
Moore Branch | Approximately 1.1 miles downstream of Powell Road | None | +590 | City of Madison.
| Approximately 0.4 mile downstream of Powell Road | None | +603
Mountain Brook Branch | Approximately 1,100 feet downstream of Clermont Drive | +647 | +651 | City of Huntsville.
| Approximately 1,700 feet upstream of Darnell Street Southeast | None | +735
Mountain Fork | Approximately 0.5 mile downstream of Oscar Patterson Road | None | +692 | Unincorporated Areas of Madison County.
| Approximately 470 feet upstream of Mountain Fork Road | None | +774
Normal Branch | Approximately 1,100 feet downstream of Max Luther Drive Northwest | None | +643 | City of Huntsville.
| Approximately 130 feet upstream of Winchester Road | None | +737
Normal Branch Diversion | At the Normal Branch confluence | None | +637 | City of Huntsville.
| At the Pinhook Creek confluence | None | +643
Normal Branch Tributary A | Approximately 950 feet downstream of Mastin Lake Road Northwest | None | +667 | City of Huntsville, Unincorporated Areas of Madison County.
| Approximately 910 feet upstream of Hi-Lo North Circle | None | +748
Oakland Spring Branch | At the upstream side of Powell Road | None | +612 | City of Madison.
| At the downstream side of Ferry Road | None | +631
Peevey Creek | Approximately 1.5 miles downstream of the Eastern Bypass | None | +606 | City of Huntsville, Unincorporated Areas of Madison County.
| Approximately 600 feet downstream of Ripple Lane | None | +638
Pinhook Creek | At the downstream side of Williams Avenue Southwest | +611 | +610 | City of Huntsville.
| Approximately 460 feet downstream of Winchester Road Northwest | +703 | +701
Pinhook Creek Tributary A | Approximately 800 feet downstream of Memorial Parkway Northwest | None | +639 | City of Huntsville.
| At the downstream side of Pulaski Pike | None | +733
Pinhook Creek Tributary C | Approximately 0.5 mile downstream of Pulaski Pike | None | +703 | City of Huntsville.
| Approximately 800 feet upstream of Pulaski Pike | None | +738
Sherwood Branch | Approximately 800 feet downstream of Old Madison Pike Northwest | +636 | +630 | City of Huntsville, Unincorporated Areas of Madison County.
| Approximately 300 feet downstream of Old Monrovia Road Northwest | None | +707
Swan Pond | Approximately 3.7 miles downstream of Zierdt Road | None | +569 | City of Huntsville, Unincorporated Areas of Madison County.
| Approximately 0.9 mile upstream of Zierdt Road | None | +571
Tributary 1 To Indian Creek | Approximately 1,500 feet downstream of Slaughter Road | +616 | +619 | City of Huntsville, City of Madison, Unincorporated Areas of Madison County.
| Approximately 600 feet upstream of Cherry Road | +712 | +710
Tributary 1 to Dry Creek 2 | Approximately 300 feet downstream of Johns Road Northwest | +708 | +710 | City of Huntsville, Unincorporated Areas of Madison County.
| At the downstream side of Ralph Road | +749 | +751
Tributary 2 to Indian Creek | At the Indian Creek confluence | +674 | +675 | City of Huntsville, Unincorporated Areas of Madison County.
| Approximately 0.7 mile upstream of the Indian Creek confluence | +699 | +700
Tributary 3 to Indian Creek | Approximately 0.4 mile downstream of Jeff Road Northwest | +699 | +700 | City of Huntsville, City of Madison, Unincorporated Areas of Madison County.
| At the downstream side of Woodland Trail | None | +811
Unnamed Tributary to Sherwood Branch | Approximately 1,840 feet downstream of Enterprise Way | None | +687 | City of Huntsville, Unincorporated Areas of Madison County.
| Approximately 730 feet upstream of Wayne Road Northwest | None | +706
West Fork Pinhook Creek | Approximately 1,940 feet downstream of Medaris Road Northwest | +678 | +679 | City of Huntsville.
| At the downstream side of Pulaski Pike | None | +767
West Fork Pinhook Tributary A | Approximately 0.5 mile downstream of Sturbridge Drive | None | +732 | City of Huntsville.
| Approximately 110 feet upstream of Green Meadow Road Northwest | None | +799
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Huntsville
Maps are available for inspection at 320 Fountain Circle, 2nd Floor, Huntsville, AL 35801.
City of Madison
Maps are available for inspection at 100 Hughes Road, Madison, AL 35758.
Town of Gurley
Maps are available for inspection at 235 Walker Street, Gurley, AL 35748.
Town of Owens Cross Roads
Maps are available for inspection at 2965 Old Highway 431, Owens Cross Roads, AL 35763.
Town of Triana
Maps are available for inspection at 640 6th Street, Madison, AL 35756.
Unincorporated Areas of Madison County
Maps are available for inspection at the Madison County Engineering Building, 814 Cook Avenue, Huntsville, AL 35801.

(Catalog of Federal Domestic Assistance No. 97.022, “Flood Insurance.”)

Dated: April 8, 2011.
Sandra K. Knight,
Deputy Federal Insurance and Mitigation Administrator, Mitigation, Department of Homeland Security, Federal Emergency Management Agency.

[FR Doc. 2011-9345 Filed 4-15-11; 8:45 am]

BILLING CODE 9110-12-P